DEPARTMENT OF TRANSPORTATION

Federal Aviation Administration

14 CFR Part 39

[Docket No. FAA-2004-18561; Directorate Identifier 2004-NM-13-AD]

RIN 2120-AA64

Airworthiness Directives; McDonnell Douglas Model DC-9-15F Airplanes Modified In Accordance With Supplemental Type Certificate (STC) SA1993SO; and Model DC-9-10, DC-9-20, DC-9-30, DC-9-40, and DC-9-50 Series Airplanes in All-Cargo Configuration

AGENCY: Federal Aviation Administration (FAA), DOT.

ACTION: Notice of proposed rulemaking (NPRM).

SUMMARY: The FAA proposes to adopt a new airworthiness directive (AD) for the airplanes listed above. For certain airplanes, this proposed AD would require inspecting to determine the airplane's cargo configuration, and reporting findings to the FAA. For airplanes modified in accordance with a certain STC or with a cargo configuration that deviates from the as-delivered configuration, this proposed AD would require revising certain manuals and manual supplements to specify certain cargo limitations. This proposed AD also would require relocating all cargo restraints on the main cargo deck. This proposed AD is prompted by reports that deficiencies related to the cargo loading system may exist on all McDonnell Douglas Model DC-9-15F airplanes modified in accordance with STC SA1993SO. We are proposing this AD to ensure that cargo in the main cabin is adequately restrained and to prevent failure of components of the cargo loading system, failure of the floor structure, or shifting of cargo. Any of these conditions could cause cargo to exceed load distribution limits or cause damage to the fuselage or control cables, which could result in reduced controllability of the airplane.

DATES: We must receive comments on this proposed AD by August 23, 2004.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

You can examine the contents of this AD docket on the Internet at http://dms.dot.gov, or at the Docket Management Facility, U.S. Department of Transportation, 400 Seventh Street SW., room PL-401, on the plaza level of the Nassif Building, Washington, DC.

FOR FURTHER INFORMATION CONTACT: Rany Azzi, Aerospace Engineer, Airframe Branch, ACE-117A, FAA, Atlanta Aircraft Certification Office, One Crown Center, 1895 Phoenix Boulevard, suite 450, Atlanta, Georgia 30349; telephone (770) 703-6083; fax (770) 703-6097.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18561; Directorate Identifier 2004-NM-13-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports that deficiencies related to the cargo loading system may exist on all McDonnell Douglas Model DC-9-15F airplanes modified in accordance with supplemental type certificate (STC) SA1993SO. These deficiencies include inadequate design of the cargo loading system and loading procedures, and lack of identification of loading devices and restraining methods. This condition, if not corrected, could lead to cargo in the main cabin being inadequately restrained, and failure of components of the cargo loading system, failure of the floor structure, or shifting of cargo. These conditions could cause cargo to exceed load distribution limits, or cause damage to the fuselage or control cables, which could result in reduced controllability of the airplane.

Explanation of Applicability

We have determined that any McDonnell Douglas Model DC-9-10, DC-9-20, DC-9-30, DC-9-40, and DC-9-50 series airplanes in all-cargo configuration may have been modified from the configuration as delivered by the airplane manufacturer to have a cargo configuration with deficiencies similar to those on airplanes modified in accordance with STC SA1993SO. Therefore, these airplanes may be subject to the same unsafe condition identified on Model DC-9-15F airplanes modified in accordance with STC SA1993SO.

FAA's Determination and Requirements of the Proposed AD

We have evaluated all pertinent information and identified an unsafe condition that is likely to exist or develop on other airplanes of this same type design. Therefore, we are proposing this AD, which would require, for airplanes not modified in accordance with STC SA1993SO, performing an inspection to determine the airplane's cargo configuration, and reporting details of the cargo configuration to us through the cognizant FAA Principal Maintenance Inspector. For airplanes modified in accordance with STC SA1993SO and airplanes found to have a cargo configuration that deviates from the original configuration as delivered by McDonnell Douglas (including, but not limited to, missing vertical side restraints or revised fore/aft restraint configuration), this proposed AD would also require revising the airplane flight manual (AFM), AFM supplements, airplane weight and balance manual (AWBM), and AWBM supplements. These manual revisions would limit the allowable cargo load, specify the types of unit loading devices (ULDs) (containers and pallets) that may be used, and limit the center-of-gravity shift of each loaded ULD. For affected airplanes, this proposed AD also would require operating the airplane in accordance with these limitations and relocating all fore/aft cargo restraints on the main cargo deck to left and right buttock line 22.0 and 44.5.

We considered these factors when we developed the compliance time for the proposed actions:

• The degree of urgency associated with addressing the subject unsafe condition.

• The time that would be necessary to accomplish the proposed requirements.

Based on these factors, we set a compliance time of 60 days (after the effective date of the AD) for completing the proposed inspection and report, and 90 days (after the effective date of the AD) for completing the manual revisions and relocation of cargo restraints, as applicable. Those compliance times represent an appropriate period of time for affected airplanes to continue to operate without compromising safety.

Costs of Compliance

This proposed AD would affect about 3 airplanes of U.S. registry, out of 5 airplanes modified in accordance with STC SA1993SO worldwide. The following table provides the estimated costs for U.S. operators of these airplanes to comply with this proposed AD.

Estimated Costs: Airplanes Modified in Accordance With STC SA1993SO
Action | Work hours | Average labor rate per hour | Parts | Cost per airplane | Fleet cost
Manual changes | 1 | $65 | None | $65 | $195
Relocation of cargo restraints on main deck | 24 | 65 | None | 1,560 | 4,680

This proposed AD would also affect about 27 airplanes of U.S. registry out of 28 airplanes worldwide that are in all-cargo configuration. The following table provides the estimated costs for U.S. operators of these airplanes to comply with this proposed AD.

Estimated Costs: Airplanes in All-Cargo Configuration
Action | Work hours | Average labor rate per hour | Parts | Cost per airplane | Fleet cost
Inspection/Reporting | 8 | $65 | None | $520 | $14,040

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-18561; Directorate Identifier 2004-NM-13-AD.

Comments Due Date

(a) The Federal Aviation Administration (FAA) must receive comments on this AD action by August 23, 2004.

Affected ADs

(b) None.

Applicability

(c) This AD applies to McDonnell Douglas Model DC-9-15F airplanes modified in accordance with supplemental type certificate (STC) SA1993SO; and Model DC-9-11, DC-9-12, DC-9-13, DC-9-14, DC-9-15, DC-9-15F, DC-9-21, DC-9-31, DC-9-32, DC-9-32 (VC-9C), DC-9-32F, DC-9-33F, DC-9-34, DC-9-34F, DC-9-32F (C-9A, C-9B), DC-9-41, and DC-9-51 airplanes in all-cargo configuration; certificated in any category.

Unsafe Condition

(d) This AD was prompted by reports that deficiencies related to the cargo loading system may exist on all McDonnell Douglas Model DC-9-15F airplanes modified in accordance with STC SA1993SO. We are issuing this AD to ensure that cargo in the main cabin is adequately restrained and to prevent failure of components of the cargo loading system, failure of the floor structure, or shifting of cargo. Any of these conditions could cause cargo to exceed load distribution limits or cause damage to the fuselage or control cables, which could result in reduced controllability of the airplane.

Compliance

(e) You are responsible for having the actions required by this AD performed within the compliance times specified, unless the actions have already been done.

Airplanes Not Modified in Accordance With STC SA1993SO: Inspection and Reporting

(f) For airplanes not modified in accordance with STC SA1993SO: Within 60 days after the effective date of this AD, perform an inspection of the main deck cargo compartment to determine the details of the airplane's cargo configuration. Within 60 days after the effective date of this AD, submit a report of the details of the airplane's cargo configuration through the FAA Principal Maintenance Inspector (PMI), or the cognizant Flight Standards District Office, as applicable, to the Manager, Atlanta Aircraft Certification Office (ACO), FAA, Small Airplane Directorate. The report must include the airplane serial number, inspection results, and the information specified in paragraphs (f)(1), (f)(2), (f)(3), and (f)(4) of this AD. Under the provisions of the Paperwork Reduction Act of 1980 (44 U.S.C. 3501 et seq.), the Office of Management and Budget (OMB) has approved the information collection requirements contained in this AD and has assigned OMB Control Number 2120-0056.

(1) Restraint system: Does the airplane have vertical side restraints installed on the main deck floor? How many vertical side restraints are installed per airplane side?

(2) Vertical fore/aft restraints: How many vertical fore/aft restraints are installed on each end of a pallet position?

(3) For airplanes with missing vertical side restraints: Is a bump rail installed?

(4) Unit Loading Devices (ULDs): What type/model ULDs are used for cargo carriage in affected airplanes? Obtain NAS 3610 designation from affixed data plate as required by Technical Standard Order (TSO) C90a, b, c, or designation provided by STC or other approved means. Is there a manual or document that indicates the type/model of ULDs to use? If there is such a manual or document, include the manual/document number and revision level in the report required by paragraph (f) of this AD.

Airplanes Deviating From Original Configuration: Required Action

(g) During the inspection required by paragraph (f) of this AD, if the airplane's cargo configuration deviates from the original configuration as delivered by McDonnell Douglas (including, but not limited to, missing vertical side restraints or revised fore/aft restraint configuration), accomplish paragraphs (h) and (i) of this AD.

Manual Revisions

(h) For airplanes modified in accordance with STC SA1993SO and airplanes specified in paragraph (g) of this AD: Within 90 days after the effective date of this AD, revise the Limitations section of the airplane flight manual (AFM), the AFM supplements, the Limitations section of the airplane weight and balance manual (AWBM), and the AWBM supplements to include the information specified below. This may be accomplished by inserting a copy of this AD into the affected manual or supplement. After accomplishment of these revisions, the airplane must be operated in accordance with these limitations.

“REDUCTION IN CARGO LOADS AS FOLLOWS:

• Zone 1 (most forward): Limited to a maximum of 4,000 pounds,

• Zones 2 through 7: Limited to a maximum of 5,200 pounds each,

• Zone 8 (most aft): Limited to a maximum of 2,000 pounds.

Note: The maximum total payload that can be carried on the main deck is limited to the lesser of:

• The approved cargo barrier weight limit,

• Weight permitted by the approved maximum zero-fuel weight,

• Weight permitted by the approved main deck position weights,

• Weight permitted by the approved main deck running load or distributed load limitations, or

• Approved cumulative zone or fuselage monocoque structural loading limitations (including lower hold cargo).

LIMITATIONS:

Use only unit loading devices (ULDs) (containers and pallets) that are structurally compatible with the cargo loading system. One means of establishing compatibility is through compliance with the specifications of NAS 3610 for ULDs approved under Technical Standard Order (TSO) C90a, b, or c; or as provided by the appropriate instructions of a Supplemental Type Certificate or other approved means. Alternative methods of compliance can be obtained as specified in paragraph (j) of this AD.

Ensure proper restraining of the ULDs by engaging all cargo loading system restraints.

The center-of-gravity shift of each ULD must not exceed 10 percent of its base longitudinal or lateral directions.”

Relocation of Cargo Restraints

(i) For airplanes modified in accordance with STC SA1993SO and airplanes specified in paragraph (g) of this AD: Within 90 days after the effective date of this AD, relocate all fore/aft cargo restraints in the main cargo deck to left and right buttock lines 22.0 and 44.5.

Alternative Methods of Compliance (AMOCs)

(j) The Manager, Atlanta ACO, has the authority to approve AMOCs for this AD, if requested in accordance with the procedures found in 14 CFR 39.19.

Issued in Renton, Washington, on June 30, 2004.
Kalene C. Yanamura,
Acting Manager, Transport Airplane Directorate, Aircraft Certification Service.

[FR Doc. 04-15519 Filed 7-7-04; 8:45 am]

BILLING CODE 4910-13-P